DEPARTMENT OF TRANSPORTATION

Federal Aviation Administration

14 CFR Part 121

[Docket No. FAA-1998-4521; Amendment No. 121-332]

RIN 2120-AF07

Drug and Alcohol Testing Requirements; Correction

AGENCY: Federal Aviation Administration (FAA), DOT.

ACTION: Final rule; correcting amendment.

SUMMARY: The FAA is correcting a technical amendment to its drug and alcohol testing requirements published on March 15, 2007 (72 FR 12082). The purpose of the technical amendment was to conform those requirements to the National Air Tour Safety Standards. In one paragraph of the regulation, we inadvertently referred to an “antidrug program,” when we should have referred to an “Alcohol Misuse Prevention Program.”

DATES: Effective June 7, 2007.

FOR FURTHER INFORMATION CONTACT: Patrice M. Kelly, Deputy Division Manager, Drug Abatement Division, Office of Aerospace Medicine, 800 Independence Ave., SW., Washington, DC, 20591. (202) 267-3123; e-mail: patrice.kelly@faa.gov.

SUPPLEMENTARY INFORMATION:

Background

On March 15, 2007 (72 FR 12082), we published a technical amendment that updated several references in the FAA's drug and alcohol testing regulations in title 14 of the Code of Federal Regulations (14 CFR), part 121, appendices I and J. The technical amendment was necessary because amendments in the National Air Tour Safety Standards final rule (72 FR 6884; Feb. 13, 2007) redefined terms used in the drug and alcohol testing regulations.

In the technical amendment, we changed the language in several charts in part 121, appendix J. When we changed the language in section VII.B.3.b., we inadvertently referred to an “antidrug program,” when we should have referred to an “Alcohol Misuse Prevention Program.” Appendix J applies to alcohol testing programs, not drug testing programs.

Accordingly, 14 CFR part 121 is corrected by making the following correcting amendment:

PART 121—OPERATING REQUIREMENTS: DOMESTIC, FLAG, AND SUPPLEMENTAL OPERATIONS

1. The authority citation for part 121 continues to read as follows:

Authority: 49 U.S.C. 106(g), 40113, 40119, 41706, 44101, 44701-44702, 44705, 44709-44711, 44713, 44716-44717, 44722, 44901, 44903-44904, 44912, 45101-45105, 46105, 46301.

Appendix J—[Amended]

2. Amend Appendix J to Part 121, Section VII.B.3.b., by removing the words “antidrug program” and adding in their place the words “Alcohol Misuse Prevention Program.”

Issued in Washington, DC, on June 1, 2007.
Pamela Hamilton-Powell,
Director, Office of Rulemaking.

[FR Doc. E7-10973 Filed 6-6-07; 8:45 am]

BILLING CODE 4910-13-P